U.S.-CHINA ECONOMIC AND SECURITY REVIEW COMMISSION

Notice of Open Public Hearing

AGENCY: U.S.-China Economic and Security Review Commission

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on March 16, 2017 on “China's Pursuit of Next Frontier Tech: Computing, Robotics, and Biotechnology”.

DATES: The hearing is scheduled for Thursday, March 16, 2017 from 9:30 a.m. to 3:20 p.m.

ADDRESSES: Dirksen Senate Office Building, Room 419, Washington, DC. A detailed agenda for the hearing will be posted on the Commission's Web site at www.uscc.gov. Also, please check the Commission's Web site for possible changes to the hearing schedule. Reservations are not required to attend the hearing.

FOR FURTHER INFORMATION CONTACT: Any member of the public seeking further information concerning the hearing should contact Leslie Tisdale, 444 North Capitol Street NW., Suite 602, Washington, DC 20001; telephone: 202-624-1496, or via email at ltisdale@uscc.gov. Reservations are not required to attend the hearing.

SUPPLEMENTARY INFORMATION:

Background: This is the third public hearing the Commission will hold during its 2017 report cycle to collect input from academic, industry, and government experts on national security implications of the U.S. bilateral trade and economic relationship with China. This hearing on “China's Pursuit of Next Frontier Tech: Computing, Robotics, and Biotechnology” will examine the industrial policies outlined in the 13th Five-Year Plan (2016-2020) and related policy announcements that seek to move Chinese manufacturing up the value-added chain, establish China as a global center of innovation and technology, and ensure China's long-term productivity in critical dual-use technologies such as computing, robotics, and biotechnology. Advancements in these sectors have previously driven U.S. technological and military superiority, and the Chinese government is looking to develop its own technological leaders and reduce its dependence on foreign technology. This hearing will examine what steps the Chinese government has taken to support these sectors, compare U.S. and Chinese technological leadership in these sectors, and consider the implications of China's policies for U.S. economic and national security interests and how the United States can maintain its strategic advantage. The hearing will be co-chaired by Commissioner Daniel M. Slane and Commissioner Katherine C. Tobin, Ph.D. Any interested party may file a written statement by March 16, 2017, by mailing to the contact information above. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: February 27, 2017.
Michael Danis,
Executive Director, U.S.-China Economic and Security Review Commission.

[FR Doc. 2017-04067 Filed 3-1-17; 8:45 am]

BILLING CODE 1137-00-P